FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR Part 225) to engage de nova, or to acquire or control voting securities or assets of a company, including the companies listed below, that engages directly or through a subsidiary or other company, in a nonbanking activity that is listed in § 225.28 of Regulation Y (12 CFR 225.27) or that the Board has determined by Order to be closely related to banking and permissible for bank holding companies. Unless otherwise noted, these activities will be conducted throughout the United States

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than December 4, 2000.

A. Federal Reserve Bank of New York (Betsy Buttrill White, Senior Vice President) 33 Liberty Street, New York, New York 10045-0001:

1. Mizuho Holdings, Inc., Tokyo, Japan, and Dai-Ichi Kangyo Bank, Limited, The, Tokyo Japan; to engage de nova through its subsidiary, Dealerconx, Inc., Livingston, New Jersey, in providing loan and lease agency and brokerage services, data processing services and loan/lease servicing through an internet-based data processing application available to retail automotive dealers that seek loan and lease financing and related financial services for customers' retail automobile purchases, pursuant to § 225.28(b)(1), (2), (3), and (14) of Regulation Y.

2. Svenska Handelsbanken, Stockholm, Sweden; to engage de novo, through its subsidiary, Oktogon Advisers, LLC, New York, New York, in providing portfolio investment advice on a discretionary and directed basis (including advice on derivative transactions and structured assets) to U.S. and non-U.S. clients, including corporations and institutional investors (such as pension funds and insurance companies), charitable foundations, religious and university endowment funds, private investment companies, and hedge funds (both off-shore and on-shore) and mutual funds, pursuant to § 225.28(b)(6) of Regulation Y.

3. Westdeutsche Landesbank Girozentrale, Dusseldorf, Germany; to acquire Gulfstream Global Investors, Ltd., Addison, Texas, and thereby engage in investment advisory activities, pursuant to § 225.28(b)(6) of Regulation Y.

Board of Governors of the Federal Reserve System, November 14, 2000.
Robert deV. Frierson,
Associate Secretary of the Baord.

[FR Doc. 00-29527 Filed 11-16-00; 8:45 am]

BILLING CODE 6210-01-P